DEPARTMENT OF TRANSPORTATION

National Highway Traffic Safety Administration

[Docket No. NHTSA 2002-12319; Notice 2]

Guardian Industries Corporation; Grant of Application for Decision for Determination of Inconsequential Noncompliance

This notice grants the application by Guardian Industries Corporation (Guardian) of Auburn Hills, Michigan to be exempted from the notification and remedy requirements of 49 U.S.C. 30118 and 30120 for a noncompliance with 49 CFR 571.205, Federal Motor Vehicle Safety Standard (FMVSS) No. 205, “Glazing Materials.” Guardian has filed an appropriate report pursuant to 49 CFR part 573, “Defect and Noncompliance Reports.” Pursuant to 49 CFR part 556, Guardian has also applied to be exempted from the notification and remedy requirements of 49 U.S.C. Chapter 301, “Motor Vehicle Safety.” The basis of the grant is that the noncompliance is inconsequential to motor vehicle safety.

Notice of receipt of the application was published June 3, 2002, (67 FR 38315) affording an opportunity for comment. The comment closing date was July 3, 2002. No comments were received.

From November 2000 to February 2001, Guardian manufactured 11,562 tempered glass sunroof parts that do not meet the labeling requirements of paragraph S6 of FMVSS No. 205. The parts were marked with the manufacturer's model number M-934, which corresponds to a tempered glass with 4.0 mm nominal thickness. The correct manufacturer's model number should have been M-937, which is tempered glass with a 5.0 mm nominal thickness.

FMVSS No. 205, paragraph S6 “Certification and marking,” requires that each piece of glazing material shall be marked in accordance with Section 6 of the American National Standard “Safety Code for Safety Glazing Materials for Glazing Materials for Glazing in Motor Vehicles Operating on Land Highways” Z-26.1-1977, January 26, 1977, as supplemented by Z26.1a, July 3, 1980 (ANS Z26). This specifies all safety glazing materials for use in accordance with this code shall be legibly and permanently marked in letters and numerals at least 0.070 inch (1.78 mm) in height, with the words “American National Standard” or the characters “AS” and, in addition, with a model number that will identify the type of construction of the glazing material.

Guardian submitted a test report indicating the tempered glass parts in question were in full compliance with 49 CFR 571.205 except that the parts were affixed with the incorrect manufacturer's model number. The noncompliance was discovered during a routine in-house quality control inspection.

NHTSA has reviewed Guardian's application and, for the reasons discussed in this paragraph, concludes that the noncompliance of the Guardian tempered glass sunroof parts is inconsequential to motor vehicle safety. Guardian has provided documentation indicating that the sunroof parts do comply with all other safety performance requirements of the standard except the labeling. In spite of the incorrect labeling being affixed to the tempered glass part described herein, the correct part was sold and shipped for use in the fabrication of the sunroof assemblies. Since the sunroof assemblies would be ordered by its unique part number and not the manufacturer's model number (i.e., M-934), the noncompliance would not result in the wrong part being used in an original equipment manufactured (OEM) application. If there was an attempt to install a mislabeled sunroof part into the sunroof assembly, Guardian confirmed to NHTSA that the glass construction would not properly fit. NHTSA also has determined that the lack of proper labeling of the sunroof parts would not affect driver visibility. The sunroof is not in the driver's normal forward field of view. Since the sunroof parts comply with all other safety performance requirements of the standard except the labeling, NHTSA determined that the noncompliance would not affect the other purposes of FMVSS No. 205 that include reducing injuries from glazing surfaces or minimizing possibility of occupants being thrown through the vehicle windows in collisions.

In consideration of the foregoing, NHTSA has decided that the applicant has met its burden of persuasion that the noncompliance it describes is inconsequential to motor vehicle safety.

Accordingly, the application is granted, and the applicant is exempted from providing the notification of the noncompliance that is required by 49 U.S.C. 30118, and from remedying the noncompliance, as required by 49 U.S.C. 30120.

The applicant is hereby informed that all products manufactured on and after the date it determined the existence of this noncompliance must fully comply with the requirements of FMVSS No. 205.

Authority: 49 U.S.C. 30118(b), 30120(h), delegations of authority at 49 CFR 1.50 and 501.8.

Issued on: October 17, 2002.
Stephen R. Kratzke,
Associate Administrator for Rulemaking.

[FR Doc. 02-26971 Filed 10-22-02; 8:45 am]

BILLING CODE 4910-59-P